NUCLEAR REGULATORY COMMISSION

[Docket No. NRC-2014-0130]

Agency Information Collection Activities: Submission for the Office of Management and Budget Review; Comment Request

AGENCY: Nuclear Regulatory Commission.

ACTION: Notice of the Office of Management and Budget (OMB) review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on July 21, 2014.

1. Type of submission, new, revision, or extension: Revision.

2. The title of the information collection: 10 CFR Part 74—Material Control and Accounting of Special Nuclear Material.

3. Current OMB approval number: 3150-0123.

4. The form number if applicable: N/A.

5. How often the collection is required: Submission of fundamental material control plans is a one-time requirement which has been completed by all current licensees as required. However, licensees may submit amendments or revisions to the plans as necessary. In addition, specified inventory and material status reports are required annually or semi-annually. Other reports are submitted as events occur.

6. Who will be required or asked to report: Persons licensed under part 70 of Title 10 of the Code of Federal Regulations (10 CFR) who possess and use certain forms and quantities of Special Nuclear Material (SNM).

7. An estimate of the number of annual responses: 170.

8. The estimated number of annual respondents: 18.

9. An estimate of the total number of hours needed annually to complete the requirement or request: The total number of annual burden hours is 9,914 hours (9,005 hours for recordkeeping and 909 hours for reporting).

10. Abstract: Part 74 establishes requirements for material control and accounting of SNM, and specific performance-based regulations for licensees authorized to possess, use, and produce strategic SNM, and SNM of moderate strategic significance and low strategic significance. The information is used by the NRC to make licensing and regulatory determinations concerning material accounting of SNM and to satisfy obligations of the United States to the International Atomic Energy Agency. Submission or retention of the information is mandatory for persons subject to the requirements.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by November 17, 2014. Comments received after this date will be considered if it is practical to do so, but assurance of consideration cannot be given to comments received after this date.

Vlad Dorjets, Desk Officer, Office of Information and Regulatory Affairs (3150-0123), NEOB-10202, Office of Management and Budget, Washington, DC 20503.

Comments can also be emailed to Vladik_Dorjets@omb.eop.gov or submitted by telephone at 202-395-7315.

The Acting NRC's Clearance Officer is Brenda Miles, 301-415-7884.

Dated at Rockville, Maryland, this 10th day of October 2014.
For the Nuclear Regulatory Commission.
Brenda Miles,
NRC Clearance Officer, Office of Information Services.

[FR Doc. 2014-24591 Filed 10-15-14; 8:45 am]

BILLING CODE 7590-01-P